POSTAL SERVICE

Sunshine Act Meeting

Board Votes To Close October 31, 2008, Meeting

By telephone vote on October 31, 2008, the Board of Governors of the United States Postal Service voted unanimously to close to public observation its meeting held via teleconference. The Board determined that prior public notice was not possible.

Items Considered: 1. Pricing.

2. Personnel Matters and Compensation Issues.

General Counsel Certification: The General Counsel of the United States Postal Service has certified that the meeting was properly closed under the Government in the Sunshine Act.

Contact Person for More Information: Requests for information about the meeting should be addressed to the Secretary of the Board, Julie S. Moore, at (202) 268-4800.

Julie S. Moore,
Secretary.

[FR Doc. E8-27146 Filed 11-12-08; 11:15 am]

BILLING CODE 7710-12-P